COMMISSION ON CIVIL RIGHTS

Notice of Public Meeting of the Puerto Rico Advisory Committee; Cancellation

AGENCY: Commission on Civil Rights.

ACTION: Notice; cancellation of meeting date.

SUMMARY: The Commission on Civil Rights published a notice in the Federal Register concerning a meeting of the Puerto Rico Advisory Committee. The meeting scheduled for Wednesday, September 28, 2022, at 1:00 p.m. (ET) is cancelled. The notice is in the Federal Register of Wednesday, September 7, 2022, in FR Doc. 2022-19268, in the third column of page 54671 and the first column of page 54672.

FOR FURTHER INFORMATION CONTACT: Victoria Moreno, 434-515-0204, vmoreno@usccr.gov.

Dated: September 22, 2022.
David Mussatt,
Supervisory Chief, Regional Programs Unit.

[FR Doc. 2022-20900 Filed 9-27-22; 8:45 am]

BILLING CODE P